NATIONAL SCIENCE FOUNDATION

Advisory Committee for International Science and Engineering; Notice of Meeting

In accordance with the Federal Advisory Committee Act (Pub. L. 92-463, as amended), the National Science Foundation (NSF) announces the following meeting:

Name and Committee Code: Advisory Committee for International Science and Engineering Meeting (AC-ISE) (#25104).

Date and Time: Monday, October 29, 2018; 9:00 a.m. to 4:45 p.m. (EDT), Tuesday, October 30, 2018; 9:00 a.m. to 1:00 p.m. (EDT).

Place: National Science Foundation, 2415 Eisenhower Avenue, Alexandria, VA 22314.

To help facilitate your entry into the NSF building, please contact Victoria Fung (vfung@nsf.gov) on or prior to October 24, 2018.

Type of Meeting: Open.

Contact Person: Simona Gilbert, AC-ISE Executive Secretary and Staff Associate for Budget, National Science Foundation, 2415 Eisenhower Avenue, Alexandria, Virginia, 22314; Telephone: 703-292-8710.

Purpose of Meeting: To provide advice, recommendations and counsel on major goals and policies pertaining to international programs and activities.

Agenda

• Updates on OISE activities

• Discussion on International Strategic Plan Working Group

• Updates on MULTIplying Impact Leveraging International Expertise in Research (MULTIPLIER)

• Updates on IRES Evaluation

• Discussion on International Strategic Plan

• Meet with NSF leadership

Dated: September 12, 2018.
Crystal Robinson
Committee Management Officer.

[FR Doc. 2018-20170 Filed 9-17-18; 8:45 am]

BILLING CODE 7555-01-P